NATIONAL SCIENCE FOUNDATION

Agency Information Collection Activities: Proposed Collection; Comment Request

AGENCY: National Science Foundation.

ACTION: Notice

.

SUMMARY: The National Science Foundation (NSF) is announcing plans to request establishment and clearance of this collection. In accordance with the requirement of Section 3506(c)(2)(A) of the Paperwork Reduction Act of 1995, we are providing opportunity for public comment on this action. After obtaining and considering public comment, NSF will prepare the submission requesting OMB clearance of this collection for no longer than 3 years.

Comments are invited on: (a) Whether the proposed collection of information is necessary for the proper performance of the functions of the Agency, including whether the information shall have practical utility; (b) the accuracy of the Agency's estimate of the burden of the proposed collection of information; (c) ways to enhance the quality, utility, and clarity of the information on respondents, including through the use of automated collection techniques or other forms of information technology; and (d) ways to minimize the burden of the collection of information on respondents, including through the use of automated collection techniques or other forms of information technology.

DATES: Written comments should be received by August 10, 2009 to be assured of consideration. Comments received after that date will be considered to the extent practicable.

ADDRESSES: Written comments regarding the information collection and requests for copies of the proposed information collection request should be addressed to Suzanne Plimpton, Reports Clearance Officer, National Science Foundation, 4201 Wilson Blvd., Rm. 295, Arlington, VA 22230, or by e-mail to splimpto@nsf.gov.

FOR FURTHER INFORMATION CONTACT: Suzanne Plimpton on (703) 292-7556 or send e-mail to splimpto@nsf.gov. Individuals who use a telecommunications device for the deaf (TDD) may call the Federal Information Relay Service (FIRS) at 1-800-877-8339 between 8 a.m. and 8 p.m., Eastern time, Monday through Friday.

SUPPLEMENTARY INFORMATION:

Request for Clearance for Program Review of the Science and Technology Centers (STC): Integrative Partnership Program

Title of Collection: Program Review of the National Science Foundation's (NSF) Science and Technology Centers: Integrative Partnership Program.

OMB Control No.: 3145-(NEW).

Expiration Date of Approval: Not applicable.

Abstract

The National Science Foundation (NSF) requests a three-year clearance for research, evaluation and data collection (e.g., surveys and interviews) from graduate student and postdoctoral participants in the Science and Technology Centers: Integrative Partnerships (STC) Program. Other STC stakeholders typically are limited to PhD scientists and engineers and faculty and administrators from universities and not-for-profit institutions and industrial/business partners, NSF employees and former NSF employees and intergovernmental personnel act (IPA) appointees.

The STC program provides multiyear (up to ten years) support to STCs as continuing awards that are among the largest (up to $4 million a year) awarded by the National Science Foundation (NSF). This support fuels innovation and builds intellectual and physical infrastructure within and among disciplines in the integrative conduct of research, education, and knowledge transfer. The STC program currently funds a total of 17 Centers—five beginning in 2000, six beginning in 2002, two beginning in 2005, and four beginning in 2006. STCs conduct world-class research through partnerships among academic institutions, national laboratories, industrial organizations, and/or other public/private entities, and via international collaborations, as appropriate. STCs enable and foster excellence in education, the integration of research and education, and the creation of bonds between learning and inquiry so that discovery and creativity more fully support the learning process. In addition, STCs capitalize on diversity through participation in Center activities and demonstrate leadership in the involvement of groups underrepresented in science and engineering.

Based on prior evaluations of the program, the National Science Board (NSB) approved the continuation of Science and Technology Centers through the establishment of new program solicitations and several new competitions. As part of the continuation, the NSB required the program to conduct a program evaluation of the outcomes and impact of the program seven years after the first new cohort of Centers were established (Memorandum to Members of the National Science Board, February 13, 1997).

A related data collection effort that consists of general grantee reporting is approved for program monitoring under OMB 3145-0194. To enable effective oversight of its investment, the NSF requires that each currently funded Center submit an annual progress report that describes all activities of the Center; each existing Center began submitting an annual report at the end of its first year. While a database of Centers' characteristics, activities, and outcomes has been created using data from these annual reports, supplemental information is required to fulfill the evaluative needs of the program.

NSF has planned a new program review of STC, and has contracted with Abt Associates Inc. to provide for analytic and technical support, to include data collection and analysis, for an expert peer review of the program. To help fulfill the evaluation needs of the program, NSF has planned to collect data that is designed to explore the structures and processes the STCs and their participating universities have in place for developing the human capital of program participants and for fostering a variety of career paths. The primary methods of data collection will include data gathering from open sources and from records at NSF and grantee centers and from surveys of program participants. There are a bounded (or limited) number of respondents within the general public who will be affected by this research, including former graduate student and postdoctoral fellow participants of the centers. NSF will use the STC program evaluation data and analyses to provide members of an expert peer review panel with information about the program's role in the talent development and on the career paths taken by students who participated in STCs and were involved in particular STC activities.

Respondents: Individuals or households, Federal Government, and not-for-profit institutions.

Estimated Number of Respondents: 1700.

Burden on the Public: 850 hours.

Dated: June 5, 2009.
Suzanne H. Plimpton,
Reports Clearance Officer, National Science Foundation.

[FR Doc. E9-13712 Filed 6-10-09; 8:45 am]

BILLING CODE 7555-01-P